DEPARTMENT OF THE INTERIOR

Fish and Wildlife Service

Availability of Draft Comprehensive Conservation Plan and Environmental Assessment for North Platte National Wildlife Refuge, Scottsbluff, NE

AGENCY: Fish and Wildlife Service, Interior.

ACTION: Notice of Availability.

SUMMARY: Pursuant to the Refuge Improvement Act of 1997, the U.S. Fish and Wildlife Service has published the Draft North Platte National Wildlife Refuge Comprehensive Conservation Plan and Environmental Assessment. This Plan describes how the FWS intends to manage the North Platte NWR for the next 10-15 years.

DATES: Submit written comments by February 8, 2001. All comments need to be addressed to: Brad McKinney, Refuge Manage, U.S. Fish and Wildlife Service, North Platte National Wildlife Refuge, 115 Railway Street, Suite C109, Scottsbluff, NE 69363-1346.

ADDRESSES: A copy of the Draft Plan may be obtained by writing to U.S. Fish and Wildlife Service, North Platte NWR, 115 Railway Street, Suite C109, Scottsbluff, NE 69363-1346 or from http://www.r6.fws.gov/larp/.

FOR FURTHER INFORMATION CONTACT: Brad McKinney, U.S. Fish and Wildlife Service, North Platte NWR, 115 Railway Street, Suite C109, Scottsbluff, NE brad_mckinney@fws.gov.

SUPPLEMENTARY INFORMATION: The 2,909-acre North Platte National Wildlife Refuge is located in the Nebraska Panhandle, within the Central Flyway and Kansas/Platte Rivers ecosystem, about eight miles north of the city of Scottsbluff, NE. This Refuge is superimposed over or adjoining three Bureau of Reclamation reservoirs consisting of Lake Minatare, Winters Creek Lake, and Lake Alice. The North Platte NWR was established by Executive Order in 1916 as a “preserve and breeding ground for native birds.” Since the Refuge is superimposed over Bureau lands, it remains subordinate to “Reclamation service uses.” Management of the North Platte NWR will be guided by its purpose to provide a preserve and breeding ground for migratory birds as well as to provide for the life requirements of other species of wildlife, subject to Bureau uses, and to provide compatible, high quality environmental education and wildlife-oriented recreational opportunities.

Dated: January 3, 2001.
John A. Blankenship,
Regional Director, Denver, Colorado.

[FR Doc. 01-508 Filed 1-8-01; 8:45 am]

BILLING CODE 4310-55-M